DEPARTMENT OF COMMERCE

National Oceanic and Atmospheric Administration

RIN 0648-XD128

South Atlantic Fishery Management Council; Public Meetings

AGENCY: National Marine Fisheries Service (NMFS), National Oceanic and Atmospheric Administration (NOAA), Commerce.

ACTION: Meetings of the South Atlantic Fishery Management Council (SAFMC).

SUMMARY: In addition to a meeting of the Law Enforcement Advisory Panel (AP), the South Atlantic Fishery Management Council (Council) will hold a joint meeting of the Law Enforcement Committee and Law Enforcement AP as well as a joint committee meeting of the Habitat & Environmental Protection Committee and Ecosystem-Based Management Committee. The Council will also hold meetings of the: Southeast Data, Assessment and Review Committee (partially Closed Session); Protected Resources Committee; Snapper Grouper Committee; King & Spanish Mackerel Committee; Executive Finance Committee; Dolphin Wahoo Committee; Data Collection Committee; and a meeting of the Full Council. The Council will take action as necessary. The Council will also hold an informal public question and answer session regarding agenda items and a formal public comment session.

DATES: The Council meeting will be held from 8:30 a.m. on Monday, March 3, 2014 until 1 p.m. on Friday, March 7, 2014.

ADDRESSES: Meeting Address: The meeting will be held at the Hilton Savannah DeSoto, 15 East Liberty Street, Savannah, GA 31401; telephone: (877) 280-0751 or (912) 232-9000; fax: (912) 232-6018.

Council Address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion in the individual meeting agendas are as follows:

Law Enforcement Advisory Panel Agenda, Monday, March 3, 2014, 8:30 a.m. Until 12 Noon

1. Receive an update on the North Carolina Joint Enforcement Agreement.

2. Review the status of the Oculina Experimental Closed Area Evaluation Team.

3. Receive an update on recently completed and developing amendments.

4. Review Snapper Grouper Amendment 33/Dolphin Wahoo Amendment 7 (fillet issue) and develop recommendations.

Joint Law Enforcement Committee and Law Enforcement Advisory Panel Agenda, Monday, March 3, 2014, 1:30 p.m. Until 3 p.m.

Discuss the recommendations from the Law Enforcement AP.

Joint Habitat & Environmental Protection and Ecosystem-Based Management Committee Agenda, Monday, March 3, 2014, 3 p.m. Until 5:30 p.m.

1. Review the status of Coral Amendment 8, pertaining to Coral Habitat Areas of Particular Concern (HAPCs) and transit through the Oculina Bank HAPC.

2. Review the status of the Coral Reef Conservation Program's Fiscal Year (FY) 2014-16 Cooperative Agreement.

3. Receive the Spatial Representation of the Oculina Bank HAPC Options as requested by the deepwater shrimp industry.

4. Recommend approval of SAFMC policy statements and receive an update on ecosystem activities.

Southeast Data, Assessment and Review (SEDAR) Committee Agenda, Tuesday, March 4, 2014, 8:30 a.m. Until 9:30 a.m. (Note: A Portion of This Meeting Will Be Closed)

1. Receive a SEDAR activities update as well as a SEDAR Steering Committee Report.

2. Receive a report on the South Atlantic Fishery Dependent Workshop as well as the status of the Wreckfish Assessment peer review.

3. Develop recommendations for approvals of SEDAR 41 participants (South Atlantic Red Snapper and Gray Triggerfish) and SEDAR South Atlantic Shrimp Data participants. Appoint a Wreckfish chairperson and reviewers. (Closed Session)

Protected Resources Committee Agenda, Tuesday, March 4, 2014, 9:30 a.m. Until 10:30 a.m.

1. Receive an update on ongoing consultations from the Southeast Regional Office (SERO) Protected Resources Division (PRD).

2. Receive a report on: The Endangered Species Act (ESA) American Eel status review; the Atlantic Sturgeon stock assessment; the proposed critical habitat for Loggerhead Sea Turtles; and the status of the proposed listing for Red Knots.

3. Develop committee recommendations as appropriate.

Snapper Grouper Committee Agenda, Tuesday, March 4, 2014, 10:30 a.m. Until 5:30 p.m. and Wednesday, March 5, 2014, 8:30 a.m. Until 5 p.m.

1. Receive and discuss the status of commercial and recreational catches versus quotas for species under Annual Catch Limits (ACLs).

2. Receive an update on the status of Snapper Grouper amendments under formal Secretarial review.

3. Review the status of the Oculina Experimental Closed Area Evaluation Team.

4. Receive an overview of scoping comments for Regulatory Amendment 16, pertaining to the removal of the Black Sea Bass pot closure. Modify the document, choose preferred alternatives and provide guidance to staff.

5. Review Snapper Grouper Amendment 22, relating to tags that track recreational harvest of species; receive a NOAA General Counsel (GC) report on Limited Access Privilege Program (LAPP) Determination; discuss the amendment and develop guidance to staff.

6. Review Snapper Grouper Amendment 29, regarding Only Reliable Catch Stocks (ORCS) and management measures for Gray Triggerfish; receive an overview of public hearing comments as well as the amendment document; modify the document and develop recommendations for the management measures.

7. Review the options paper for Snapper Grouper Amendment 32, relating to Blueline Tilefish; modify the document; and provide guidance to staff.

8. Review the following amendments and provide guidance to staff: Snapper Grouper Amendment 20 (Snowy Grouper and Mutton Snapper); and Snapper Grouper Amendment 33/Dolphin Wahoo Amendment 7 (fillet issue).

9. Review Snapper Grouper Regulatory Amendment 21 relating to Minimum Stock Size Threshold (MSST) and develop recommendations for formal Secretarial review.

10. Review the Generic Accountability Measures (Snapper Grouper)/Dolphin Allocation Amendment and provide guidance to staff.

11. Review the status and materials of the Visioning port meetings and provide guidance to staff.

12. Receive an economic efficiency analysis/net benefit analysis report from the Southeast Fisheries Science Center (SEFSC).

Note: There will be an informal public question and answer session with the NMFS Regional Administrator and the Council Chairman on Wednesday, March 5, 2014, beginning at 5:30 p.m.

King & Spanish Mackerel Committee Agenda, Thursday, March 6, 2014,8:30 a.m. Until 11 a.m.

1. Receive and discuss the status of commercial and recreational catches versus ACLs for Atlantic group King Mackerel, Spanish Mackerel and Cobia.

2. Review the status of amendments under formal Secretarial review and recommend the approval of Joint Amendment 20B (Gulf King Mackerel trip limits and seasons, transit provision, regional quotas, framework, Cobia ACL) for formal Secretarial review following committee review of the amendment.

3. Review the Coastal Migratory Pelagics (CMP) Framework Amendment 1 pertaining to Spanish Mackerel ACLs along with the Gulf Council decisions and the public hearing comments. Modify the document as appropriate and recommend approval for formal Secretarial review.

4. Receive an update on the SEDAR 38 Data Workshop (Gulf and South Atlantic King Mackerel) and Gulf Council meeting.

5. Review Joint Amendment 24 (allocations) and Joint Amendment 26 (separate commercial permits), including public scoping comments and Gulf Council decisions. Provide guidance to staff.

Executive Finance Committee Agenda, Thursday, March 6, 2014, 11 a.m. Until 12 Noon

1. Receive a report on the actual Council calendar year (CY) 2014 funding levels as well as the status of the CY 2014 budget expenditures.

2. Receive an update on the activities of the Joint Committee on South Florida Management Issues and the Ad Hoc Goliath Grouper Joint Council Steering Committee.

3. Receive a report on the Council Coordination Committee (CCC) meeting.

4. Discuss Council Follow-up and priorities and address other issues as appropriate.

Dolphin Wahoo Committee Agenda, Thursday, March 6, 2014, 1:30 p.m. Until 3:30 p.m.

1. Receive updates on the status of commercial and recreational catches versus Annual Catch Limits (ACLs).

2. Review the status of Dolphin Wahoo Amendment 5, pertaining to bag limit sales of fish and changes to the ACL and the Allowable Biological Catch (ABC).

3. Review Dolphin Wahoo Amendment 7, regarding the issue of transport of fillets from Bahamian waters into United States waters, modify the amendment as appropriate and provide direction to staff.

4. Review the Generic Accountability Measures and Dolphin Allocation Amendment scoping comments, discuss the amendment and provide direction to staff.

Data Collection Committee Agenda, Thursday, March 6, 2014, 3:30 p.m. Until 5 p.m.

1. Receive an update on the status of the following amendments: The Joint South Atlantic/Gulf Generic Dealer Amendment; the Joint South Atlantic/Gulf For-Hire Reporting Amendment; and the Gulf Framework for For-Hire Reporting Amendment.

2. Review the status of the Comprehensive Ecosystem-Based Amendment 3 (CE-BA3) as well as a presentation by NOAA GC pertaining to bycatch requirements in the South Atlantic. Modify the amendment as appropriate and recommend approval for formal Secretarial review.

3. Receive an update on the Commercial Logbook Pilot Study.

4. Receive an overview, status and results of Gulf Council actions for the Joint South Atlantic/Gulf Generic Charterboat Reporting Amendment. Modify the amendment as appropriate and provide guidance to staff.

5. Receive a report on the Electronic Technology Workshop and Implementation Plan. Discuss the report and provide guidance to staff.

Note: A formal public comment session will be held on Thursday, March 6, 2014, beginning at 5:30 p.m. on the following items: Snapper Grouper Regulatory Amendment 21; Joint Amendment 20B; CMP Framework Amendment 1; and Comprehensive Ecosystem-Based Amendment 3. Following comment on these specific items, public comment will be accepted regarding any other items on the Council agenda. The amount of time provided to individuals will be determined by the Chairman based on the number of individuals wishing to comment.

Council Session: Friday, March 7, 2014, 8:30 a.m. Until 1 p.m.

8:30-8:45 a.m.: Call the meeting to order, adopt the agenda, approve the December 2013 minutes.

8:45-9:15 a.m.: The Council will receive a report from the Snapper Grouper Committee and is scheduled to either approve or disapprove Regulatory Amendment 21 for formal Secretarial review. The Council will consider other Committee recommendations and take action as appropriate.

9:15-9:45 a.m.: The Council will receive a report from the King & Spanish Mackerel Committee and is scheduled to approve or disapprove the Joint South Atlantic/Gulf Amendment 20B and the CMP Spanish Mackerel Framework Amendment for formal Secretarial review. The Council will consider other Committee recommendations and take action as appropriate.

9:45-10 a.m.: The Council will receive a report from the Dolphin Wahoo Committee. The Council will consider Committee recommendations and take action as appropriate.

10-10:30 a.m.: The Council will receive a report from the Data Collection Committee and is scheduled to either approve or disapprove Comprehensive Ecosystem-Based Amendment 3 for formal Secretarial review. The Council will consider other Committee recommendations and take action as appropriate.

10:30-10:45 a.m.: The Council will receive a report from the Law Enforcement Committee, will consider Committee recommendations and will take action as appropriate.

10:45-11 a.m.: The Council will receive a report from the Joint Habitat & Environmental Protection and Ecosystem-Based Management Committee and is scheduled to either approve or disapprove SAFMC policy statements. The Council will consider other Joint Committee recommendations and take action as appropriate.

11-11:15 a.m.: The Council will receive a report from the Protected Resources Committee, consider Committee recommendations and take action as appropriate.

11:15-11:30 a.m.: The Council will receive a report from the SEDAR Committee and is scheduled to appoint: A Wreckfish chairperson and reviewers; South Atlantic Shrimp Data participants; and SEDAR 41 participants. The Council will consider other Committee recommendations and take action as appropriate.

11:30-11:45 a.m.: The Council will receive a report from the Executive Finance Committee and is scheduled to approve the Council Follow-up and Priorities documents. The Council will take action on the South Florida Management issues as appropriate, consider other Committee recommendations and take action as appropriate.

11:45-1 p.m.: The Council will receive status reports from SERO and the NMFS SEFSC. The Council will review and develop recommendations on Experimental Fishing Permits as necessary; review agency and liaison reports; and discuss other business and upcoming meetings.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: February 10, 2014.
Tracey L. Thompson,
Acting Deputy Director, Office of Sustainable Fisheries, National Marine Fisheries Service.

[FR Doc. 2014-03142 Filed 2-12-14; 8:45 am]

BILLING CODE 3510-22-P